OVERSEAS PRIVATE INVESTMENT CORPORATION

Sunshine Act; November 5, 2009, Public Hearing

OPIC's Sunshine Act notice of its Public Hearing in Conjunction with each Board meeting was published in the Federal Register (Volume 74, Number 196, Page 52513) on October 13, 2009. No requests were received to provide testimony or submit written statements for the record; therefore, OPIC's public hearing scheduled for 2 p.m., November 5, 2009 in conjunction with OPIC's November 19, 2009 Board of Directors meeting has been cancelled.

Contact Person for Information: Information on the hearing cancellation may be obtained from Connie M. Downs at (202) 336-8438, via facsimile at (202) 218-0136, or via e-mail at Connie.Downs@opic.gov.

Dated: October 29, 2009.
Connie M. Downs,
OPIC Corporate Secretary.

[FR Doc. E9-26505 Filed 10-30-09; 11:15 am]

BILLING CODE 3210-01-P